SMALL BUSINESS ADMINISTRATION

[Disaster Declaration # 10224]

California Disaster # CA-00021 Declaration of Economic Injury

AGENCY: Small Business Administration.

ACTION: Notice.

SUMMARY: This is a notice of an Economic Injury Disaster Loan (EIDL) declaration for the State of California, dated 10/27/2005.

Incident: Lake Tahoe Sewage Spill.

Incident Period: 07/19/2005.

Effective Date: 10/27/2005.

EIDL Loan Application Deadline Date: 07/27/2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: Notice is hereby given that as a result of the Administrator's EIDL declaration on 10/27/2005, applications for economic injury disaster loans may be filed at the address listed above or other locally announced locations.

The following areas have been determined to be adversely affected by the disaster:

Primary Counties:

Placer

Contiguous Counties:

California

El Dorado, Nevada, Sacramento, Sutter, Yuba.

Nevada

Carson City, Douglas, Washoe.

The Interest Rate is: 4.000.

The number assigned to this disaster for economic injury is 102240.

The States which received an EIDL Declaration # are California and Nevada.

(Catalog of Federal Domestic Assistance Number 59002)

Dated: October 27, 2005.
Hector V. Barreto,
Administrator.

[FR Doc. 05-22535 Filed 11-10-05; 8:45 am]

BILLING CODE 8025-01-P